DEPARTMENT OF TRANSPORTATION

Federal Highway Administration

[Docket No. FHWA-2024-0018]

Withdrawal of a Notice of Intent To Prepare an Environmental Impact Statement for a Proposed Highway Project in Clark County, Nevada

AGENCY: Federal Highway Administration (FHWA), Department of Transportation (USDOT).

ACTION: Notice of withdrawal.

SUMMARY: The FHWA and the Nevada Department of Transportation (NDOT) are issuing this notice to advise the public that they are withdrawing the Notice of Intent (NOI) to prepare an Environmental Impact Statement (EIS) published in the Federal Register for transportation improvements to a section of Interstate 11 (formerly I-515)/US 95/US 93 in the City of Las Vegas, Clark County, Nevada. The project is commonly referred to as the Downtown Access Project.

FOR FURTHER INFORMATION CONTACT:

For Federal Highway Administration: Abdelmoez Abdalla, Environmental Program Manager, FHWA Nevada Division, 705 N. Plaza, Suite 220, Carson City, NV 89701; Telephone: (775) 687-1231, email: abdelmoez.abdalla@dot.gov.

For the Nevada Department of Transportation (NDOT): Danja Petro, Senior Project Manager, Nevada Department of Transportation, 123 E Washington Ave., Las Vegas, NV 89101; Telephone: (702) 671-8865, email: dpetro@dot.nv.gov.

SUPPLEMENTARY INFORMATION: The FHWA, in coordination with NDOT, published an NOI on March 22, 2024, at 89 FR 20530, to prepare an EIS for transportation improvements to a section of Interstate 11 (I-11)/U.S. Highway 95 (US 95)/US Highway 93 (US 93) in the City of Las Vegas, Clark County, Nevada, known as the Downtown Access Project. The agencies hereby notify the public of the withdrawal of this NOI. The EIS process is being rescinded due to recent and ongoing reprioritization of major projects within Nevada, as well as the escalating overall cost of the project.

Any future federally assisted action within this corridor would comply with the environmental review requirements of the National Environmental Policy Act (NEPA) (42 U.S.C. 4321 et seq.); 23 U.S.C. 139, CEQ regulations for implementing NEPA (40 Code of Regulations [CFR] 1500-1508); FHWA regulations implementing NEPA (23 CFR parts 771, 772, and 774); and applicable Federal, State, and local laws and regulations.

Authority: 23 U.S.C. 315; 49 CFR 1.48.

Khoa Nguyen,
Division Administrator, Carson City, Nevada.

[FR Doc. 2024-26631 Filed 11-14-24; 8:45 am]

BILLING CODE 4910-22-P